ENVIRONMENTAL PROTECTION AGENCY

[EPA-HQ-OPPT-2006-0398; FRL-8086-6]

Release of Draft Brochure on Current Best Practices to Prevent Asbestos Exposure Among Brake and Clutch Repair Workers; Notice of Availability

AGENCY: Environmental Protection Agency (EPA).

ACTION: Notice of availability.

SUMMARY: EPA is announcing the release of a draft brochure entitled, Current Best Practices for Preventing Asbestos Exposure Among Brake and Clutch Repair Workers. This brochure, when finalized, is intended to provide information for automotive professionals and home mechanics on preventing exposure to brake and clutch dust that may contain asbestos fibers. The draft brochure summarizes work practices that may be used to avoid asbestos exposure and identifies pertinent Occupational Safety and Health Administration (OSHA) regulatory requirements for professional automotive mechanics, which are found at 29 CFR 1910.1001, specifically paragraph (f)(3) and Appendix F. These same requirements also are contained in EPA's Worker Protection Rule, found at 40 CFR part 763, subpart G, which applies to State and local government employees who perform brake and clutch work in States without OSHA-approved State plans. The draft brochure also provides related information for home mechanics to consider. When finalized, this brochure will update and supercede the existing document entitled, Guidance for Preventing Asbestos Disease Among Auto Mechanics (EPA-560-OPTS-86-002), commonly referred to as the “Gold Book.” The public is encouraged to provide comments to EPA regarding this draft brochure, which can be found at http://www.epa.gov/asbestos.

DATES: Comments must be received on or before October 23, 2006.

ADDRESSES: Submit your comments, identified by docket identification (ID) number EPA-HQ-OPPT-2006-0398, by one of the following methods.

• Federal eRulemaking Portal: http://www.regulations.gov. Follow the on-line instructions for submitting comments.

• Mail. Document Control Office (7407M), Office of Pollution Prevention and Toxics (OPPT), Environmental Protection Agency, 1200 Pennsylvania Ave., NW., Washington, DC 20460-0001.

• Hand Delivery: OPPT Document Control Office (DCO), EPA East, Rm. 6428, 1201 Constitution Ave., NW., Washington, DC. Attention: Docket ID Number EPA-HQ-OPPT-2006-0398. The DCO is open from 8 a.m. to 4 p.m., Monday through Friday, excluding legal holidays. The telephone number for the DCO is (202) 564-8930. Such deliveries are only accepted during the DCO's normal hours of operation, and special arrangements should be made for deliveries of boxed information.

Instructions: Direct your comments to docket ID number EPA-HQ-OPPT-2006-0398. EPA's policy is that all comments received will be included in the public docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD ROM you submit. If EPA cannot read your comment due to technical difficulties and cannot contact you for clarification, EPA may not be able to consider your comment. Electronic files should avoid the use of special characters, any form of encryption, and be free of any defects or viruses.

Docket: All documents in the docket are listed in the regulations.gov index. Although listed in the index, some information is not publicly available, e.g., CBI or other information whose disclosure is restricted by statute. Certain other material, such as copyrighted material, will be publicly available only in hard copy. Publicly available docket materials are available either electronically at http://www.regulations.gov, or in hard copy at the OPPT Docket, EPA Docket Center (EPA/DC), EPA West, Rm. B102, 1301 Constitution Ave., NW., Washington, DC. The EPA Docket Center Public Reading Room is open from 8:30 a.m. to 4:30 p.m., Monday through Friday, excluding legal holidays. The telephone number for the Public Reading Room is (202) 566-1744, and the telephone number for the OPPT Docket is (202) 566-0280.

FOR FURTHER INFORMATION CONTACT: For general information contact: Colby Lintner, Regulatory Coordinator, Environmental Assistance Division (7408M), Office of Pollution Prevention and Toxics, Environmental Protection Agency, 1200 Pennsylvania Ave., NW., Washington, DC 20460-0001; telephone number: (202) 554-1404; e-mail address: TSCA-Hotline@epa.gov.

For technical information contact: Tom Simons, National Program Chemicals Division (7404T), Office Pollution Prevention and Toxics, Environmental Protection Agency, 1200 Pennsylvania Ave., NW., Washington, DC 20460-0001; telephone number: (202) 566-0517; e-mail address: simons.tom@epa.gov or Robert Courtnage, National Program Chemicals Division (7404T), Office Pollution Prevention and Toxics, Environmental Protection Agency, 1200 Pennsylvania Ave., NW., Washington, DC 20460-0001; telephone number: (202) 566-1081; e-mail address: courtnage.robert@epa.gov.

SUPPLEMENTARY INFORMATION:

I. General Information

A. Does this Action Apply to Me?

You may be potentially affected by this action if you conduct automotive repair work. Individuals covered by this action may include those in the professional automotive repair industry, State and local government employees who perform brake and clutch work in States without OSHA-approved State plans, and people performing do-it-yourself automotive repair. In addition, those involved in the manufacture and/or import of automotive brake and clutch products that may contain asbestos, and those involved in regulatory compliance may be affected by the notice.

This listing is not intended to be exhaustive, but rather provides a guide for readers regarding entities likely to be affected by this action. Other types of entities not listed in this unit could also be affected. To determine whether you or your business may be affected by this action, you should carefully examine the applicability provisions in 29 CFR 1910.1001, specifically paragraph (f)(3) and Appendix F or 40 CFR part 763, subpart G. If you have any questions regarding the applicability of this action to a particular entity, consult either technical person listed under FOR FURTHER INFORMATION CONTACT.

B. What Should I Consider as I Prepare My Comments for EPA?

1. Submitting CBI. Do not submit this information to EPA through regulations.gov or e-mail. Clearly mark the part or all of the information that you claim to be CBI. For CBI information in a disk or CD ROM that you mail to EPA, mark the outside of the disk or CD ROM as CBI and then identify electronically within the disk or CD ROM the specific information that is claimed CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at the estimate.

vi. Provide specific examples to illustrate your concerns, and suggested alternatives.

vii. Explain your views as clearly as possible, avoiding the use of profanity or personal threats.

viii. Make sure to submit your comments by the comment period deadline identified.

II. What Action is the Agency Taking?

EPA is announcing the release of a draft brochure entitled, Current Best Practices for Preventing Asbestos Exposure Among Brake and Clutch Repair Workers. This brochure, when finalized, will provide information for automotive professionals, including State and local government employees who perform brake and clutch work, and home mechanics on preventing exposure to brake and clutch dust that may contain asbestos fibers. The draft brochure summarizes work practices that may be used to avoid asbestos exposure and identifies pertinent OSHA regulatory requirements for professional automotive mechanics, which are found at 29 CFR 1910.1001, specifically paragraph (f)(3) and Appendix F. EPA's Worker Protection Rule, found at 40 CFR part 763, subpart G, contains identical requirements and applies to State and local government employees who perform brake and clutch work in States without OSHA-approved State plans. The draft brochure also provides related information specifically for the consideration of home mechanics, who are not subject to the OSHA (or EPA) work practice standards. When finalized, this brochure will update and replace the existing document entitled, Guidance for Preventing Asbestos Disease Among Auto Mechanics (EPA-560-OPTS-86-002), commonly referred to as the “Gold Book.” The public is encouraged to provide comments to EPA regarding this draft brochure, which can be found at http://www.epa.gov/asbestos.

Asbestos is the common name given to a number of naturally occurring mineral fibers that have been used in manufactured goods due to their high tensile strength, resistance to heat, and chemical stability. Because of these properties, asbestos fibers have been used in a wide range of manufactured goods, including roofing shingles, ceiling and floor tiles, paper and cement products, textiles, and coatings and friction products such as automobile clutch, brake, and transmission parts. Exposure to asbestos is potentially harmful to human health if microscopic asbestos fibers, released into the air when asbestos is disturbed or in poor condition, are inhaled into the lungs. Asbestos exposure has been associated with a number of serious health problems and diseases, including asbestosis, lung cancer, and mesothelioma.

In 2004, EPA contacted nine auto manufacturers that cumulatively accounted for over 96% of the light vehicles sold in the United States and asked whether they used asbestos brakes in new vehicles or replacement parts sold in the United States. All nine companies responded that they no longer sold asbestos brakes in new vehicles or as replacement parts in the United States. These responses did not address aftermarket brakes (replacement parts not supplied by the vehicle manufacturer). Aftermarket brakes that contain asbestos may, in some cases, still be available for purchase in the United States. Accordingly, while the use of asbestos in automotive brake and clutch products appears to be declining domestically, this remains a source of potential asbestos exposure. EPA did not seek information on clutches because the Congressional inquiry to which the Agency was responding when seeking this information was limited to brakes. It should be noted that the aftermarket for clutches is significantly smaller than the aftermarket for brakes.

This draft brochure contains current information and, when finalized, will supersede the currently available Guidance for Preventing Asbestos Disease Among Auto Mechanics (EPA-560-OPTS-86-002). The purpose of the brochure, once finalized, will be to provide the public and workers involved in brake and clutch repair work with a simple, easy-to-understand summary of the OSHA work practice standards, which are mandatory for certain professional automotive mechanics. Also discussed in this brochure is EPA's Worker Protection Rule, which contains identical requirements, and is mandatory for State and local government employees who perform brake and clutch work in States without OSHA-approved State plans. EPA believes that home mechanics also may benefit from information discussed in the brochure regarding these work practice standards and additional advice on steps they can consider taking to prevent possible asbestos exposure when working with asbestos-containing friction products. Neither the draft nor final brochure is intended to provide comprehensive technical information regarding work practices, or a comprehensive assessment of the possible health effects from exposure to asbestos in brakes and clutches. Additionally, neither the draft nor final brochure is a substitute for any applicable legal requirements, or a regulation. Thus, they do not impose legally binding requirements on any party, including EPA, States, or the regulated community. Interested professional mechanics engaged in commercial brake and clutch repair are encouraged to contact OSHA regarding compliance with the mandatory work practice standards highlighted in this draft brochure (http://www.osha.gov). Similarly, interested State and local government employees who perform brake and clutch work in States without OSHA-approved State plans are encouraged to contact EPA regarding compliance with EPA's Worker Protection Rule. Finally, home mechanics may contact EPA with any specific questions not addressed in the brochure by visiting the EPA asbestos website at http://www.epa.gov/asbestos.

EPA is seeking public comment on all aspects of the new brochure's design and content. This includes the tone of the brochure and the extent to which the current wording and design tend to support its effectiveness as an educational tool. One issue that EPA has considered is the need to balance technical accuracy with clarity and freedom from overly technical terminology, while still maintaining consistency with the OSHA mandatory work practice standards and the identical requirements contained in EPA's Worker Protection Rule. The extent to which the current draft is clear and understandable is of primary concern to the Agency. In designing the layout of the brochure, EPA has been aware of the need to develop a dynamic and engaging document while ensuring that the brochure can be easily and inexpensively reprinted. This approach has led the Agency to incorporate a layout and illustrations that anchor many of the brochure's key points while providing visual interest. EPA requests comment on whether the draft images may be altered in any way to increase their effectiveness.

EPA welcomes all comments and suggestions for improving the draft brochure and will, where appropriate, incorporate changes to the final brochure. However, EPA does not plan to develop or publish a formal document that summarizes and responds to the comments received. EPA will announce the availability of the final brochure through a future Federal Register notice and, once finalized, the brochure will be available on the EPA asbestos website at http://www.epa.gov/asbestos.

List of Subjects

Environmental protection, Asbestos, Automotive brake and clutch repair, Health.

Dated: August 17, 2006.
James B. Gulliford,
Assistant Administrator, Office of Prevention, Pesticides and Toxic Substances.

[FR Doc. E6-14057 Filed 8-23-06; 8:45 am]

BILLING CODE 6560-50-S